DEPARTMENT OF LABOR

Occupational Safety and Health Administration

[Docket No. OSHA-H022k-2006-0062]

Preparations for the 30th Session of the UN Sub-Committee of Experts on the Globally Harmonized System of Classification and Labelling of Chemicals (UNSCEGHS)

AGENCY: Occupational Safety and Health Administration (OSHA), Department of Labor

ACTION: Notice of public meeting.

SUMMARY: This notice is to advise interested persons that on Thursday, November 12, 2015, OSHA will conduct a public meeting to discuss proposals in preparation for the 30th session of the United Nations Sub-Committee of Experts on the Globally Harmonized System of Classification and Labelling of Chemicals (UNSCEGHS) to be held December 9 to December 11, 2015 in Geneva, Switzerland. OSHA, along with the U.S. Interagency GHS (Globally Harmonized System of Classification and Labelling of Chemicals) Coordinating Group, plans to consider the comments and information gathered at this public meeting when developing the U.S. Government positions for the UNSCEGHS meeting. Members of the Regulatory Cooperation Council (RCC) will be present to update Canada's status of their GHS policy and procedures. International conference call capability will be available for this portion of the public meeting.

Also, on Thursday, November 12, 2015, the Department of Transportation (DOT), Pipeline and Hazardous Materials Safety Administration (PHMSA) will conduct a public meeting (See Docket No. PHMSA-2015-0188, Notice No. 15-19) to discuss proposals in preparation for the 48th session of the United Nations Sub-Committee of Experts on the Transport of Dangerous Goods (UNSCOE TDG) to be held November 30 to December 9, 2015, in Geneva, Switzerland. During this meeting, PHMSA is also requesting comments relative to potential new work items that may be considered for inclusion in its international agenda. PHMSA will also provide an update on recent actions to enhance transparency and stakeholder interaction through improvements to the international standards portion of its Web site.

DATES: Thursday November 12, 2015

ADDRESSES: Both meetings will be held at the DOT Headquarters Conference Center, West Building, 1200 New Jersey Avenue SE., Washington, DC 20590.

Times and Locations: PHMSA public meeting: 9:00 a.m. to 12:00 p.m. EDT, Conference Rooms 8-10.

OSHA public meeting: 1:00 p.m. to 2:30p.m. EDT, Conference Rooms 8-10.

RCC public meeting: 3:00 p.m. to 4:30 p.m. EDT, Conference Rooms 8-10.

Advanced Meeting Registration: The DOT requests that attendees pre-register for these meetings by completing the form at: https://www.surveymonkey.com/r/LVXNWYT.

Attendees may use the same form to pre-register for both the PHMSA and the OSHA meetings. Failure to pre-register may delay your access into the DOT Headquarters building. Additionally, if you are attending in-person, arrive early to allow time for security checks necessary to access the building.

Conference call-in and “live meeting” capability will be provided for both meetings.

The number is reserved and the Live Meeting link is setup for all day.

Toll Free (USA)

Toll Free: 888-675-2535

Access code: 3614708

International Callers

International Toll: 215-446-0145

Access: 3614708

Attendee URL: https://www.livemeeting.com/cc/phmsa/join?id=JKJ4DF&role=attend&pw=w5%3CPP%28%5D%2Cs

FOR FURTHER INFORMATION CONTACT: For information about the PHMSA Meeting at 9:00 a.m.: Mr. Steven Webb or Mr. Aaron Wiener, Office of Hazardous Materials Safety, Department of Transportation, Washington, DC 20590: Telephone: (202) 366-8553.

For information about the OSHA Meeting at 1:00 p.m. and the RCC Meeting at 3:00 p.m.: Ms. Maureen Ruskin, Office of Chemical Hazards-Metals, OSHA Directorate of Standards and Guidance, Department of Labor, Washington, DC 20210: Telephone: (202) 693-1950, email: ruskin.maureen@dol.gov.

SUPPLEMENTARY INFORMATION:

The OSHA Meeting: OSHA is hosting an open informal public meeting of the U.S. Interagency GHS Coordinating Group to provide interested groups and individuals with an update on GHS-related issues and an opportunity to express their views orally and in writing for consideration in developing U.S. Government positions for the upcoming UNSCEGHS meeting. Interested stakeholders may also provide input on issues related to OSHA's activities in the U.S.-Canada Regulatory Cooperation Council (RCC) at the meeting.

General topics on the agenda include:

• Review of Working papers

• Correspondence Group updates

• Regulatory Cooperation Council (RCC) Update

Information on the work of the UNSCEGHS including meeting agendas, reports, and documents from previous sessions, can be found on the United Nations Economic Commission for Europe (UNECE) Transport Division Web site located at the following web address: http://www.unece.org/trans/danger/publi/ghs/ghs_welcome_e.html. The UNSCEGHS bases its decisions on Working Papers. The Working Papers for the 30th session of the UNSCEGHS are located at: http://www.unece.org/trans/main/dgdb/dgsubc3/c32015.html.

Informal Papers submitted to the UNSCEGHS provide information for the Sub-committee and are used either as a mechanism to provide information to the Sub-committee or as the basis for future Working Papers. Informal Papers for the 30th session of the UNSCEGHS are located at: http://www.unece.org/trans/main/dgdb/dgsubc4/c4inf30.html.

The PHMSA Meeting: The Federal Register notice and additional detailed information relating to PHMSA's public meeting will be available upon publication at http://www.regulations.gov (Docket No. PHMSA-2015-0188 No.) and on the PHMSA Web site at: http://www.phmsa.dot.gov/hazmat/regs/international.

The primary purpose of PHMSA's meeting will be to prepare for the 47th session of the UNSCE TDG. The 48th session of the UNSCE TDG is the first of four meetings scheduled for the 2015-2016 biennium. The UNSCE will consider proposals for the 20th Revised Edition of the United Nations Recommendations on the Transport of Dangerous Goods Model Regulations, which may be implemented into relevant domestic, regional, and international regulations from January 1, 2019. Copies of working documents, informal documents, and the meeting agenda may be obtained from the United Nations Transport Division's Web site at http://www.unece.org/trans/danger/danger.html.

Authority and Signature: This document was prepared under the direction of David Michaels, Ph.D., MPH, Assistant Secretary of Labor for Occupational Safety and Health, U.S. Department of Labor, pursuant to sections 4, 6, and 8 of the Occupational Safety and Health Act of 1970 (29 U.S.C. 653, 655, 657), and Secretary's Order 1-2012 (77 FR 3912), (Jan. 25, 2012).

Signed at Washington, DC, on October 26, 2015.
David Michaels,
Assistant Secretary of Labor for Occupational Safety and Health.

[FR Doc. 2015-27821 Filed 10-30-15; 8:45 am]

BILLING CODE 4510-26-P